DEPARTMENT OF COMMERCE

International Trade Administration

[C-423-809]

Stainless Steel Plate in Coils From Belgium: Final Results of Countervailing Duty Administrative Review

AGENCY: Import Administration, International Trade Administration, Department of Commerce.

SUMMARY: On June 4, 2009, the U.S. Department of Commerce (“the Department”) published in the Federal Register its Preliminary Results of the administrative review of the countervailing duty order on stainless steel plate in coils (“SSPC”) from Belgium for the period January 1, 2007, through December 31, 2007. See Stainless Steel Plate in Coils from Belgium: Preliminary Results of Countervailing Duty Administrative Review, 74 FR 26844 (June 4, 2009) (“Preliminary Results”).

On September 16, 2009, the Department issued a post-preliminary analysis regarding certain additional information placed on the record of this administrative review after the Preliminary Results were issued. We provided interested parties an opportunity to comment on our Preliminary Results and our post-preliminary analysis. The final results do not differ from the Preliminary Results, where we found the net subsidy rate to be zero.

DATES: Effective Date: November 9, 2009.

FOR FURTHER INFORMATION CONTACT: Alexander Montoro or Mary Kolberg, AD/CVD Operations, Office 1, Import Administration, U.S. Department of Commerce, 14th Street and Constitution Avenue, NW., Washington, DC 20230; telephone: (202) 482-0238 and (202) 482-1785, respectively.

SUPPLEMENTARY INFORMATION:

Background

The following events have occurred since the publication of the Preliminary Results of this review. On July 9, 2009, the Department extended the briefing and hearing schedules in order to provide parties with additional time to consider the results of the Department's post-preliminary analysis.

As noted in the Preliminary Results, the Government of Belgium (“GOB”) requested an extension to file its response to the Department's May 4, 2009, supplemental questionnaire, which we granted. See Preliminary Results at 26844. The GOB submitted that response on July 6, 2009. On September 16, 2009, the Department issued a post-preliminary analysis regarding a research and development program administered by the Institute for the Promotion of Innovation by Science and Technology in Flanders. See Memorandum to Carole A. Showers, Acting Deputy Assistant Secretary for Policy and Negotiations, from David Layton and Mary Kolberg: Post-Preliminary Findings (September 18, 2008) (“Post-Prelim Analysis”).

On September 25, 2009, we extended the time limit for the final results of this administrative review by 30 days (to November 2, 2009), pursuant to section 751(a)(3)(A) of the Tariff Act of 1930, as amended (“the Act”). See Stainless Steel Plate in Coils from Belgium: Extension of Time Limit for the Final Results of the Ninth Countervailing Duty Administrative Review, 74 FR 48904 (September 25, 2009).

The Department received case briefs from ArcelorMittal Stainless Belgium (“AMS Belgium”) ¹ and the GOB on September 29, 2009. No rebuttal briefs were filed. The Department did not conduct a hearing in this review because none was requested.

¹ The review was originally requested by U&A Belgium. The company previously known as U&A Belgium stated in questionnaire responses that its name changed to ArcelorMittal Stainless Belgium (“AMS Belgium”) during the period of review (“POR”) pursuant to the merger of Mittal Steel NV with Arcelor S.A. completed on November 11, 2007. See AMS Belgium Questionnaire Response dated October 22, 2008 (“AMS QR”) at page 1, footnote 1, and page 4, footnote 2.

Period of Review

The period of review (“POR”) for which we are measuring subsidies is January 1, 2007, through December 31, 2007.

Scope of the Order

The products covered by this order are imports of certain stainless steel plate in coils. Stainless steel is an alloy steel containing, by weight, 1.2 percent or less of carbon and 10.5 percent or more of chromium, with or without other elements. The subject plate products are flat-rolled products, 254 mm or over in width and 4.75 mm ² or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars.

² On May 11, 2007, the Department received a scope inquiry request from U&A Belgium regarding whether the scope of the orders on SSPC from Belgium excludes stainless steel products with an actual thickness less than 4.75 mm, regardless of its nominal thickness. The Department conducted a scope inquiry applicable to all countries subject to the SSPC antidumping and countervailing duty orders. In the Department's scope ruling, dated December 3, 2008, the Department determined that SSPC with a nominal thickness of 4.75 mm, but with an actual thickness less than 4.75 mm, and within the dimensional tolerances for this thickness of plate, is included in the scope of the antidumping duty orders on SSPC from Belgium, Italy, South Africa, the Republic of Korea, and Taiwan and countervailing duty orders on SSPC from Belgium and South Africa. See Memorandum from Melissa G. Skinner to Stephen J. Claeys titled “Stainless Steel Plate in Coils from Belgium: Final Scope Ruling,” dated December 3, 2008.

The merchandise subject to this order is currently classifiable in the Harmonized Tariff Schedule of the United States (“HTSUS”) at subheadings: 7219.11.00.30, 7219.11.00.60, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the Department's written description of the scope of this order remains dispositive.

Analysis of Comments Received

All issues raised in the case and rebuttal briefs by parties to this review are addressed in the November 2, 2009, Issues and Decision Memorandum for the Final Results of the Ninth (2007) Administrative Review of the Countervailing Duty Order on Stainless Steel Plate in Coils from Belgium (“Decision Memorandum”), from John M. Andersen, Acting Deputy Assistant Secretary for Antidumping and Countervailing Duty Operations, to Ronald K. Lorentzen, Acting Assistant Secretary for Import Administration, which is hereby adopted by this notice. Attached to this notice as an appendix is a list of the issues which interested parties have raised and to which we have responded in the Decision Memorandum. Parties can find a complete discussion of all issues raised in this review and the corresponding recommendations in this public memorandum, which is on file in the Department's Central Records Unit, Room 1117 of the main Department building (“CRU”). In addition, a complete version of the Decision Memorandum can be accessed directly on the Web at http://ia.ita.doc.gov/frn/index.html. The paper copy and electronic version of the Decision Memorandum are identical in content.

Final Results of Review

We find that AMS Belgium, the only producer/exporter subject to this administrative review, had no countervailable subsidies during the POR. Therefore, for the period January 1, 2007, through December 31, 2007, we determine the net subsidy rate for AMS Belgium to be 0.00 percent ad valorem.

Assessment Rates

Because the countervailing duty rate for AMS Belgium is zero, we will instruct U.S. Customs and Border Protection (“CBP”) to liquidate shipments of SSPC by AMS Belgium ³ during the period January 1, 2007, through December 31, 2007, without regard to countervailing duties in accordance with 19 CFR 351.106(c). The Department will issue appropriate instructions directly to CBP 15 days after publication of these final results of this review. However, pursuant to an injunction issued in ArcelorMittal Stainless Belgium N.V. v. United States, U.S. Court of International Trade Case No. 08-00434, on January 16, 2009, the Department must continue to suspend liquidation of entries made by AMS Belgium pending a conclusive court decision in that action.

³ During the current review AMS Belgium has placed the following information on the record. In 2006, U&A Belgium's parent company, Arcelor S.A., agreed to merge with Mittal Steel N.V. This merger was completed on November 13, 2007. As a result of this merger, U&A Belgium became AMS Belgium on November 13, 2007. The Department has reviewed the information provided by AMS Belgium with regard to the merger and evaluated the company and its affiliates for receipt of countervailable subsidies. In addition, we have reviewed entry data provided by CBP to confirm that U&A Belgium is the only manufacturer of subject merchandise exported from Belgium during the POR. For countervailing duty review purposes, we will consider U&A Belgium to be AMS Belgium for cash deposit purposes. Since the merger happened during the POR, we will issue assessment instructions for both U&A Belgium and AMS Belgium.

Cash Deposits

Since the countervailable subsidy rate for AMS Belgium is zero, the Department will instruct CBP to continue to suspend liquidation of entries, but to collect no cash deposits of estimated countervailing duties for AMS Belgium on all shipments of the subject merchandise that are entered, or withdrawn from warehouse, for consumption on or after the date of publication of the final results of this administrative review.

For all non-reviewed firms, we will instruct CBP to collect cash deposits of estimated countervailing duties at the most recent company-specific or all-others rate applicable to the company. These rates shall apply to all non-reviewed companies until a review of a company assigned these rates is requested.

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: November 2, 2009.
Ronald K. Lorentzen,
Acting Assistant Secretary for Import Administration.

APPENDIX

List of Comments and Issues in the Decision Memorandum

Comment 1: Error in the Department's Draft Liquidation Instructions

Comment 2: Department's Authority to Investigate IWT Program

[FR Doc. E9-26940 Filed 11-6-09; 8:45 am]

BILLING CODE 3510-DS-P